INTERNATIONAL TRADE COMMISSION

[Investigation Nos. 701-TA-779 and 731-TA-1765-1766 (Preliminary)]

Chromium Trioxide From India and Turkey; Revised Schedule for the Subject Proceeding

AGENCY: United States International Trade Commission.

ACTION: Notice.

DATES: December 12, 2025.

FOR FURTHER INFORMATION CONTACT: Laurel Schwartz (202-205-2398), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: On October 2, 2025, the Commission published a notice of institution of these investigations, and on November 19, 2025, published a revised scheduling notice. The Commission is revising the current schedule as follows: the Commission views will be transmitted to Commerce on January 7, 2026.

For further information concerning this proceeding, see the Commission's notice cited above and the Commission's Rules of Practice and Procedure, part 201, subparts A and B (19 CFR part 201), and part 207, subparts A and B (19 CFR part 207).

Authority: This proceeding is being conducted under authority of title VII of the Tariff Act of 1930; this notice is published pursuant to section 207.12 of the Commission's rules.

By order of the Commission.
Issued: December 15, 2025.
Sharon Bellamy,
Supervisory Hearings and Information Officer.

[FR Doc. 2025-23247 Filed 12-17-25; 8:45 am]

BILLING CODE 7020-02-P